DEPARTMENT OF ENERGY

Federal Energy Regulatory Commission

Combined Notice of Filings #1

Take notice that the Commission received the following electric rate filings:

Docket Numbers: ER10-879-000.

Applicants: Entergy Arkansas, Inc.

Description: Compliance Refund Report of Entergy Arkansas, Inc.

Filed Date: 1/10/12.

Accession Number: 20120110-5096.

Comments Due: 5 p.m. ET 1/31/12.

Take notice that the Commission received the following electric securities filings:

Docket Numbers: ES12-18-000.

Applicants: Rochester Gas and Electric Corporation.

Description: Application of Rochester Gas and Electric Corporation for Authorization to Issue Short-Term Debt under section 204 of the Federal Power Act.

Filed Date: 1/11/12.

Accession Number: 20120111-5163.

Comments Due: 5 p.m. ET 2/1/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2012.
Nathaniel J. Davis, Sr.,
Deputy Secretary.

[FR Doc. 2012-1041 Filed 1-19-12; 8:45 am]

BILLING CODE 6717-01-P